DEPARTMENT OF TRANSPORTATION

Federal Aviation Administration

14 CFR Part 39

[Docket No. FAA-2017-0251; Product Identifier 2016-NM-101-AD; Amendment 39-19133; AD 2017-26-02]

RIN 2120-AA64

Airworthiness Directives; The Boeing Company Airplanes

AGENCY: Federal Aviation Administration (FAA), DOT.

ACTION: Final rule.

SUMMARY: We are adopting a new airworthiness directive (AD) for certain The Boeing Company Model 757-200 series airplanes. This AD was prompted by a report indicating that the main cargo door (MCD) forward-most cam latch on the forward center cam latch pair broke during flight. This AD requires repetitive inspections for discrepancies of cam latches, latch pins, and latch pin cross bolts of the MCD; replacement of all alloy steel latch pin cross bolts with corrosion-resistant steel (CRES) latch pin cross bolts of the MCD; and related investigative and corrective actions if necessary. We are issuing this AD to address the unsafe condition on these products.

DATES: This AD is effective January 24, 2018.

The Director of the Federal Register approved the incorporation by reference of a certain publication listed in this AD as of January 24, 2018.

ADDRESSES: For service information identified in this final rule, contact VT Mobile Aerospace Engineering Inc., 2100 9th Street, Brookley Aeroplex, Mobile, AL 36615; telephone: 251-379-0112; email: mae.757sf@vtmae.com; internet: http://www.vtmae.com. You may view this service information at the FAA, Transport Standards Branch, 1601 Lind Avenue SW, Renton, WA. For information on the availability of this material at the FAA, call 425-227-1221. It is also available on the internet at http://www.regulations.gov by searching for and locating Docket No. FAA-2017-0251.

Examining the AD Docket

You may examine the AD docket on the internet at http://www.regulations.gov by searching for and locating Docket No. FAA-2017-0251; or in person at the Docket Management Facility between 9 a.m. and 5 p.m., Monday through Friday, except Federal holidays. The AD docket contains this final rule, the regulatory evaluation, any comments received, and other information. The address for the Docket Office (phone: 800-647-5527) is Docket Management Facility, U.S. Department of Transportation, Docket Operations, M-30, West Building Ground Floor, Room W12-140, 1200 New Jersey Avenue SE, Washington, DC 20590.

FOR FURTHER INFORMATION CONTACT: Samuel Belete, Aerospace Engineer, Systems and Equipment Section, FAA, Atlanta ACO Branch, 1701 Columbia Avenue, College Park, GA 30337; telephone: 404-474-5580; fax: 404-474-5605; email: samuel.belete@faa.gov.

SUPPLEMENTARY INFORMATION:

Discussion

We issued a notice of proposed rulemaking (NPRM) to amend 14 CFR part 39 by adding an AD that would apply to certain The Boeing Company Model 757-200 series airplanes. The NPRM published in the Federal Register on June 8, 2017 (82 FR 26617). The NPRM was prompted by a report indicating that the MCD forward-most cam latch on the forward center cam latch pair broke during flight. The NPRM proposed to require repetitive inspections for discrepancies of cam latches, latch pins, and latch pin cross bolts of the MCD; replacement of all alloy steel latch pin cross bolts with CRES latch pin cross bolts of the MCD; and related investigative and corrective actions if necessary.

We are issuing this AD to detect and correct discrepancies of the MCD cam latches, latch pins, and latch pin cross bolts, which, if left undetected, could reduce the structural integrity of the MCD and result in potential loss of the cargo door and rapid decompression of the airplane.

Comments

We gave the public the opportunity to participate in developing this final rule. We have considered the comments received. Air Line Pilots Association, International, FedEx Express, and VT Mobile Aerospace Engineering Inc. supported the NPRM.

Conclusion

We reviewed the relevant data, considered the comments received, and determined that air safety and the public interest require adopting this final rule as proposed, except for minor editorial changes. We have determined that these minor changes:

• Are consistent with the intent that was proposed in the NPRM for correcting the unsafe condition; and

• Do not add any additional burden upon the public than was already proposed in the NPRM.

Related Service Information Under 1 CFR Part 51

We reviewed VT Mobile Aerospace Engineering Inc. Service Bulletin MAE757SF-SB-52-12/02, Revision 3, dated July 22, 2016. This service information describes procedures for doing inspections for discrepancies of cam latches, latch pins, and latch pin cross bolts of the MCD; replacement of all alloy steel latch pin cross bolts with CRES latch pin cross bolts of the MCD; and related investigative and corrective actions. This service information is reasonably available because the interested parties have access to it through their normal course of business or by the means identified in the ADDRESSES section.

Costs of Compliance

We estimate that this AD affects 119 airplanes of U.S. registry.

We estimate the following costs to comply with this AD:

Estimated Costs
Action | Labor cost | Parts cost | Cost per product | Cost on U.S. operators
Inspections | 20 work-hours × $85 per hour = $1,700 per inspection cycle | $0 | $1,700 per inspection cycle | $202,300 per inspection cycle.

We estimate the following costs to do any necessary replacement of latch pin cross bolts and related investigative and corrective actions that would be required based on the results of the inspection. We have no way of determining the number of aircraft that might need these actions:

On-Condition Costs
Action | Labor cost | Parts cost | Cost per product
Replacement and Related investigative and corrective actions | Up to 144 work-hours × $85 per hour = $12,240 | Up to $3,000 | Up to $15,240.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-26-02 The Boeing Company: Amendment 39-19133; Docket No. FAA-2017-0251; Product Identifier 2016-NM-101-AD.

(a) Effective Date

This AD is effective January 24, 2018.

(b) Affected ADs

None.

(c) Applicability

This AD applies to The Boeing Company Model 757-200 series airplanes, certificated in any category, that have been converted from passenger to freighter configuration as specified in any of the VT Mobile Aerospace Engineering Inc. supplemental type certificates (STCs) identified in paragraphs (c)(1), (c)(2), and (c)(3) of this AD.

(1) STC ST03562AT (14 pallet) (http://rgl.faa.gov/Regulatory_and_Guidance_Library/rgstc.nsf/0/7239683609eb1b4086257ff1004d0f2b/$FILE/ST03562AT.pdf).

(2) STC ST04242AT (15 pallet) (http://rgl.faa.gov/Regulatory_and_Guidance_Library/rgstc.nsf/0/edd46d607cedd3a286257ff1004d8d82/$FILE/ST03952AT.pdf.)

(3) STC ST03952AT (combi—airplanes that can carry passenger, freight, or both in the cabin) (http://rgl.faa.gov/Regulatory_and_Guidance_Library/rgstc.nsf/0/edd46d607cedd3a286257ff1004d8d82/$FILE/ST03952AT.pdf).

(d) Subject

Air Transport Association (ATA) of America Code 52, Doors.

(e) Unsafe Condition

This AD was prompted by a report indicating that the main cargo door (MCD) forward-most cam latch on the forward center cam latch pair broke during flight. We are issuing this AD to detect and correct discrepancies of the MCD cam latches, latch pins, and latch pin cross bolts, which, if left undetected, could reduce the structural integrity of the MCD and result in potential loss of the MCD and rapid decompression of the airplane.

(f) Compliance

Comply with this AD within the compliance times specified, unless already done.

(g) Repetitive Inspections, Replacement, and Related Investigative and Corrective Actions

At the applicable time specified in paragraph I.D., “Compliance,” of VT Mobile Aerospace Engineering Inc. Service Bulletin MAE757SF-SB-52-12/02, Revision 3, dated July 22, 2016 (“SB MAE757SF-SB-52-12/02, R3”), except as required by paragraph (h)(1) of this AD; or within 30 days after the effective date of this AD, whichever occurs later: Do the actions specified in paragraphs (g)(1) through (g)(4) of this AD, and do all applicable related investigative and corrective actions, in accordance with the Accomplishment Instructions of SB MAE757SF-SB-52-12/02, R3, except as specified in paragraph (h)(2) of this AD. Do all applicable related investigative and corrective actions before further flight. Repeat the inspections specified in paragraphs (g)(1), (g)(2), and (g)(4) of this AD thereafter at the applicable intervals specified in paragraph I.D., “Compliance,” of SB MAE757SF-SB-52-12/02, R3.

(1) Do a general visual inspection for any broken or missing cam latches, latch pins, and latch pin cross bolts of the MCD.

(2) Do a detailed inspection for any cracks or gouges in critical areas of the cam latches and latch pins of the MCD and for any cam latches with lip deformation.

(3) Replace all previously unreplaced alloy steel latch pin cross bolts with corrosion resistant steel (CRES) latch pin cross bolts of the MCD.

(4) Do a high frequency eddy current (HFEC) or magnetic particle inspection for any cracks in the critical areas of cam latch 1 and cam latch 2 of the MCD.

(h) Exceptions to Service Information

(1) Where the “Condition” column of table 1 of paragraph I.D., “Compliance,” of SB MAE757SF-SB-52-12/02, R3, refers to airplanes meeting certain conditions identified in “Condition 1,” for this AD, “Condition 1” applies to all airplanes.

(2) Where the Accomplishment Instructions of SB MAE757SF-SB-52-12/02, R3, specify doing actions only for airplanes that have completed a certain rig and check of the MCD, this AD requires doing those actions on all airplanes.

(i) Credit for Previous Actions

This paragraph provides credit for the actions specified in paragraph (g) of this AD, if those actions were performed before the effective date of this AD using VT Mobile Aerospace Engineering Inc. Service Bulletin MAE757SF-SB-52-12/02, Revision 2, dated February 18, 2016.

(j) Special Flight Permit

A special flight permit may be issued in accordance with sections 21.197 and 21.199 of the Federal Aviation Regulations (14 CFR 21.197 and 21.199) to operate the airplane, for a single unpressurized flight, to a location where the requirements of this AD can be accomplished.

(k) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD.

(2) Before using any approved AMOC, notify your appropriate principal inspector, or lacking a principal inspector, the manager of the local flight standards district office/certificate holding district office.

(l) Related Information

For more information about this AD, contact Samuel Belete, Aerospace Engineer, Systems and Equipment Section, Atlanta ACO Branch, 1701 Columbia Avenue, College Park, GA 30337; telephone 404-474-5580; fax 404-474-5605; email: samuel.belete@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) VT Mobile Aerospace Engineering Inc. Service Bulletin MAE757SF-SB-52-12/02, Revision 3, dated July 22, 2016. The date appears only on pages 1 and 3 of this document.

(ii) Reserved.

(3) For service information identified in this AD, contact VT Mobile Aerospace Engineering Inc., 2100 9th Street, Brookley Aeroplex, Mobile, AL 36615; telephone: 251-379-0112; email: mae.757sf@vtmae.com; internet: http://www.vtmae.com.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 8, 2017.
Jeffrey E. Duven,
Director, System Oversight Division, Aircraft Certification Service.

[FR Doc. 2017-27169 Filed 12-19-17; 8:45 am]

BILLING CODE 4910-13-P